DEPARTMENT OF DEFENSE

Office of the Secretary

Meeting of the Uniform Formulary Beneficiary Advisory Panel

AGENCY: Assistant Secretary of Defense (Health Affairs), DoD.

ACTION: Notice of meeting.

SUMMARY: Under the provisions of the Federal Advisory Committee Act of 1972 (5 U.S.C., as amended, 41 CFR 102-3.150) and the Government in the Sunshine Act of 1976 (5 U.S.C. 552b, as amended) the Department of Defense (DoD) announces the following Federal advisory committee meeting of the Uniform Formulary Beneficiary Advisory Panel (“the Panel”).

DATES: Thursday, September 19, 2013, from 9:00 a.m. to 1:00 p.m.

ADDRESSES: Naval Heritage Center Theater, 701 Pennsylvania Avenue NW., Washington, DC 20004.

FOR FURTHER INFORMATION CONTACT: CDR Joseph Lawrence, DFO, Uniform Formulary Beneficiary Advisory Panel, 4130 Stanley Road, Suite 208, Building 1000, San Antonio, TX 78234-6012. Telephone: (210) 295-1271 Fax: (210) 295-2789. Email Address: Baprequests@tma.osd.mil.

SUPPLEMENTARY INFORMATION: Purpose of Meeting: The Panel will review and comment on recommendations made to the Director of TRICARE Management Activity, by the Pharmacy and Therapeutics Committee, regarding the Uniform Formulary.

Meeting Agenda:

1. Sign-In

2. Welcome and Opening Remarks

3. Public Citizen Comments

4. Scheduled Therapeutic Class Reviews (Comments will follow each agenda item)

a. Corticosteroids-Immune Modulators

b. Self-Monitoring Blood Glucose Systems

c. Renin-Angiotensin Anti-hypertensives

d. Pulmonary-1 Agents

e. Designated Newly Approved Drugs in Already-Reviewed Classes

f. Pertinent Utilization Management Issues

5. Panel Discussions and Vote

Meeting Accessibility: Pursuant to 5 U.S.C. 552b and 41 CFR 102-3.140 through 102-3.165, and the availability of space, this meeting is open to the public. Seating is limited and will be provided only to the first 220 people signing-in. All persons must sign-in legibly.

Administrative Session: Prior to the public meeting, the Panel will conduct an Administrative Session from 7:30 a.m. to 9:00 a.m. to discuss administrative matters of the Panel. The Administrative Session will be held at the Naval Heritage Center, 701 Pennsylvania Avenue NW., Washington, DC 20004. Pursuant to 41 CFR 102-3.160, the Administrative Session will be closed to the public.

Written Statements: Pursuant to 41 CFR 102-3.105(j) and 102-3.140 and 10(a)(3) of the Federal Advisory Committee Act, the public or interested organizations may submit written statements to the membership of the Panel at any time or in response to the stated agenda of a planned meeting. Written statements should be submitted to the Panel's Designated Federal Officer (DFO). The DFO's contact information can be obtained from the General Services Administration's Federal Advisory Committee Act Database at https://www.fido.gov/facadatabase/public.asp as well as in the FOR FURTHER INFORMATION CONTACT section.

Written statements that do not pertain to the scheduled meeting of the Panel may be submitted at any time. However, if individual comments pertain to a specific topic being discussed at a planned meeting, then these statements must be submitted no later than 5 business days prior to the meeting in question. The DFO will submit all written statements and provide copies to all the committee members.

Public Comments: In addition to written statements, the Panel will set aside 1 hour for individuals or interested groups to address the Panel. To ensure consideration of their comments, individuals and interested groups should submit written statements as outlined in this notice; but if they still want to address the Panel, then they will be afforded the opportunity to register the day of the meeting to address the Panel. The Panel's DFO will have a “Sign-Up Roster” available at the Panel meeting for registration on a first-come, first-serve basis. Those wishing to address the Panel will be given no more than 5 minutes to present their comments, and at the end of the 1 hour time period, no further public comments will be accepted. Anyone who signs-up to address the Panel, but is unable to do so due to the time limitation, may submit their comments in writing; however, they must understand that their written comments may not be reviewed prior to the Panel's deliberation.

To ensure timeliness of comments for the official record, the Panel encourages that individuals and interested groups consider submitting written statements instead of addressing the Panel.

Dated: August 13, 2013.
Aaron Siegel,
Alternate OSD Federal Register Liaison Officer, Department of Defense.

[FR Doc. 2013-19927 Filed 8-15-13; 8:45 am]

BILLING CODE 5001-06-P